NUCLEAR REGULATORY COMMISSION

[NRC-2009-0137]

Final Regulatory Guide: Issuance, Availability

AGENCY: Nuclear Regulatory Commission.

ACTION: Notice of Issuance and Availability of Regulatory Guide, RG 1.205.

FOR FURTHER INFORMATION CONTACT: R. A. Jervey, U.S. Nuclear Regulatory Commission, Washington, DC 20555-0001, telephone: (301) 215-7404 or e-mail to Richard.Jervey@nrc.gov.

SUPPLEMENTARY INFORMATION:

I. Introduction

The U.S. Nuclear Regulatory Commission (NRC or Commission) is issuing a revised guide in the agency's “Regulatory Guide” series. This series was developed to describe and make available to the public information such as methods that are acceptable to the NRC staff for implementing specific parts of the agency's regulations, techniques that the staff uses in evaluating specific problems or postulated accidents, and data that the staff needs in its review of applications for permits and licenses.

Regulatory Guide 1.205, Revision 1, “Risk-Informed, Performance-Based Fire Protection for Existing Light-Water Nuclear Power Plants,” was issued with a temporary identification as Draft Regulatory Guide, DG-1218. Regulatory Guide 1.205, Revision 1, incorporates the lessons-learned from ongoing review of the National Fire Protection Association Standard 805 pilot applications and endorses the recently released Revision 2 of Nuclear Energy Institute document NEI 04-02, “Guidance for Implementing a Risk-Informed, Performance-Based Fire Protection Program Under Title 10 of the Code of Federal Regulations Part 50.48(c).” The technical information in the draft RG was developed by the Office of Nuclear Reactor Regulation staff in conjunction with agency stakeholders.

II. Further Information

In March 2009, DG-1218 was published with a public comment period of 60 days from the issuance of the guide. The staff's responses to the public comments received are located in the NRC's Agencywide Documents Access and Management System (ADAMS) under Accession Number ML092460330. The summary regulatory analysis is located in ADAMS under Accession Number ML092730342. Electronic copies of RG 1.205 are available through the NRC's public Web site under “Regulatory Guides” at http://www.nrc.gov/reading-rm/doc-collections/.

In addition, regulatory guides are available for inspection at the NRC's Public Document Room (PDR) located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and Commission approval is not required to reproduce them.

Dated at Rockville, Maryland, this 11th day of December 2009.
For the Nuclear Regulatory Commission.
Andrea D. Valentin,
Chief, Regulatory Guide Development Branch, Division of Engineering, Office of Nuclear Regulatory Research.

[FR Doc. E9-30103 Filed 12-17-09; 8:45 am]

BILLING CODE 7590-01-P